ENVIRONMENTAL PROTECTION AGENCY

[EPA-HQ-OPP-2009-0364; FRL-8794-6]

Pesticide Products; Registration Applications

AGENCY: Environmental Protection Agency (EPA).

ACTION: Notice.

SUMMARY: This notice announces receipt of applications to register pesticide products containing a new active ingredient not included in any currently registered products pursuant to the provisions of section 3(c)(4) of the Federal Insecticide, Fungicide, and Rodenticide Act (FIFRA), as amended.

DATES: Comments must be received on or before January 19, 2010.

ADDRESSES: Submit your comments, identified by docket identification (ID) number EPA-HQ-OPP-2009-0364, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to docket ID number EPA-HQ-OPP-2009-0364. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Shaja B. Joyner, Registration Division (7505P), Office of Pesticide Programs, Environmental Protection Agency, 1200 Pennsylvania Ave., NW., Washington, DC 20460-0001; telephone number: (703) 308-3194; e-mail address: joyner.shaja@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA received the following applications to register pesticide products containing an active ingredient not included in any previously registered products pursuant to the provision of section 3(c)(4) of FIFRA. Notice of receipt of these applications does not imply a decision by the Agency on the applications.

1. File Symbol: 264-RNIL. Applicant: Bayer Crop Science, P.O. Box 12014, 2.T.W. Alexander Drive, Research Triangle Park, NC 27709. Product Name: Fluopyram 500 SC. Product Type: Fungicide. Active Ingredients: Fluopyram at 11.3% and pyrimethanil at 33.8%. PC Codes: 080302 and 228201. Proposed Classification: 7 and 9 respectively for fluopyram and pyrimethanil. Use: Almond; bulb vegetables; grape; pistachio; pome fruit; potato and other tuberous and corm vegetables; small berries; stone fruit, except cherry; strawberry; and tomato.

2. File Symbol: 264-RNIU. Applicant: Bayer Crop Science, P.O. Box 12014, 2.T.W. Alexander Drive, Research Triangle Park, NC 27709. Product Name: Fluopyram 400 SC. Product Type: Fungicide. Active Ingredients: Fluopyram at 17.4% and prothioconazole at 17.4%. PC Codes: 080302 and 113961. Proposed Classification: 7 and 3 respectively for fluopyram and prothioconazole. Uses: Dried shelled pea and bean subgroup, except soybean.

3. File Symbol: 264-RNON. Applicant: Bayer Crop Science, P.O. Box 12014, 2.T.W. Alexander Drive, Research Triangle Park, NC 27709. Product Name: Fluopyram 500 SC. Product Type: Fungicide. Active Ingredients: Fluopyram at 21.4% and trifloxystrobin at 21.4%. PC Codes: 080302 and 129112. Proposed Classification: 7 and 11 respectively for fluopyram and trifloxystrobin. Uses: Almond; artichoke (globe); brassica leafy vegetable (head and stem subgroup); brassica leafy vegetable (leafy greens subgroup); carrot; citrus; cucurbit vegetables; fruiting vegetables; ginseng; grapes and small vine fruit (except fuzzy kiwifruit); grasses grown for seed; herbs and spices (except black pepper); hops; leafy green vegetables (except brassica); leafy petiole vegetables (except brassica); peanut; pecan; pistachio; pome fruit; potato and other root and tuberous corm vegetables; soybean; stone fruit; strawberry; sugarbeet; tree nuts; and wheat.

4. File Symbol: 264-RNOR. Applicant: Bayer Crop Science, P.O. Box 12014, 2.T.W. Alexander Drive, Research Triangle Park, NC 27709. Product Name: Fluopyram 400 SC. Product Type: Fungicide. Active Ingredients: Fluopyram at 17.6% and tebuconazole at 17.6%. PC Codes: 080302 and 128997. Proposed Classification: 7 and 3 respectively for fluopyram and tebuconazole. Uses: Almond; barley; bulb vegetables; corn (sweet corn, field corn, field corn grown for seed, and popcorn); cucurbit vegetables; grape; grasses grown for seed (all grasses except cereals); hop; leafy brassica greens; okra; peanut; pecans; pistachio; pome fruit; soybean; stone fruit; sunflower; tree nuts; and wheat.

5. File Symbol: 264-RNTI. Applicant: Bayer Crop Science, P.O. Box 12014, 2.T.W. Alexander Drive, Research Triangle Park, NC 27709. Product Name: Fluopyram 500 Suspension Concentrate (SC). Product Type: Fungicide. Active Ingredient: Fluopyram at 41.5%. PC Code: 080302. Proposed Classification: None. Use: Alfalfa, forage; alfalfa, hay; almond, hulls; apple, wet pomace; artichoke; banana; beet, sugar, roots; berry, lowgrowing, subgroup 13-07G; brassica, head and stem, subgroup 5A; brassica, leafy greens, subgroup 5B; bushberries, subgroup 13-07B; caneberries, subgroup 13-07A; cattle, fat; cattle, meat; cattle, meat byproducts, except liver; cattle, liver; citrus, oil; corn, sweet, kernel plus cob with husk removed; cotton, gin byproducts; cotton, undelinted seed; egg; fruit, citrus, group 10; fruit, pome, group 11; fruit, small, vine, climbing, except fuzzy kiwifruit, subgroup 13-07F; fruit, stone, group 12; goat, fat; goat, meat; goat, meat byproducts, except liver; goat, liver; grain, cereal, forage, fodder and straw, group 16, except rice; forage; grain, cereal, group 15, except rice and sweet corn; grape; grape, raisin; grass, forage, fodder and hay, group 17; forage; grass, forage, fodder and hay, group 17; hay; hay, straw and stover; herbs, subgroup 19A, fresh; herbs, subgroup 19A, dried; hop, dried cones; hog, fat; hog, meat; hog, meat byproducts, except liver; hog, liver; horse, fat; horse, meat; horse, meat byproducts, except liver; horse, liver; milk; nut, tree, group (including pistachio) 14; oilseed, group 20, except cotton; okra; onion, bulb, subgroup 3-07A; onion, green, subgroup 3-07B; ornamental; peanut; peanut, hay; pepper, non-bell; poultry, fat; poultry, meat; poultry, meat byproducts; potato, processed potato waste; sheep, fat; sheep, meat; sheep, meat byproducts, except liver; sheep, liver; soybean, aspirated fractions; soybean, forage; soybean, hay; soybean, hulls; soybean, seed; spices, except black pepper, subgroup 19B; strawberry; tomato; turf; vegetable, cucurbit, group 9; vegetable, foliage of legume, except soybean, subgroup 7A; vegetable, fruiting, except non-bell pepper, group 8; vegetable, leafy, except brassica, group 4; vegetable, leaves of root and tuber, group 2; vegetable, legume, edible podded, subgroup 6A; vegetable, legume, succulent shelled, subgroup 6B; vegetable, pea and bean, dried shelled (except soybean), subgroup 6C; vegetable, root and tuber, except sugarbeet, subgroup 1B; vegetable, tuberous and corm, subgroup 1C; and vines.

6. File Symbol: 264-RNTT. Applicant: Bayer Crop Science, P.O. Box 12014, 2.T.W. Alexander Drive, Research Triangle Park, NC 27709. Product Name: Fluopyram Technical. Product Type: Fungicide. Active Ingredient: Fluopyram at 98.6%. PC Code: 080302. Proposed Classification: None. Use: Manufacturing use only.

7. File Symbol: 432-RUIL. Applicant: Bayer Environmental Science, P.O. Box 12014, 2.T.W. Alexander Drive, Research Triangle Park, NC 27709. Product Name: Fluopyram 500 SC. Product Type: Fungicide. Active Ingredient: Fluopyram at 41.5%. PC Code: 080302. Proposed Classification: None. Uses: Turf and ornamentals.

List of Subjects

Environmental protection, Pesticides and pest.

Dated: December 3, 2009.
Lois Rossi,
Director, Registration Division, Office of Pesticide Programs.

[FR Doc. E9-30203 Filed 12-17-09; 8:45 am]

BILLING CODE 6560-50-S